DEPARTMENT OF ENERGY

Federal Energy Regulatory Commission

[Project No. 14294-000]

Turnbull Hydro LLC; Notice of Application Accepted for Filing for Exemption for a Small Conduit Hydroelectric Facility and Soliciting Comments, Motions To Intervene, and Protests

Take notice that the following application has been filed with the Commission and is available for public inspection:

a. Application Type: Conduit Exemption.

b. Project No: 14294-000.

c. Date Filed: September 23, 2011.

d. Applicant: Turnbull Hydro LLC.

e. Name of Project: Mary Taylor Hydroelectric Project.

f. Location: The proposed project would be located at the Spring Valley Canal in Teton County, Montana.

g. Filed Pursuant to: Federal Power Act, 16 U.S.C. 791a-825r.

h. Applicant Contact: Ted Sorenson, Sorenson Engineering, 5203 South 11th East, Idaho Falls, ID 83404, (208) 522-8069; Nicholas E. Josten, GeoSense, 2742 Saint Charles Ave., Idaho Falls, ID 83404, (208) 528-6152.

i. FERC Contact: Jake Tung, (202) 502-8757, or email at hong.tung@ferc.gov.

j. Deadline for filing comments, motions to intervene, and protests: February 29, 2012.

Comments, motions to intervene, and protests may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street NE., Washington, DC 20426. For more information on how to submit these types of filings, please go to the Commission's Web site located at http://www.ferc.gov/filing-comments.asp.

k. Description of Request: The proposed small conduit hydroelectric project would consist of: (1) An intake structure on the left side of Spring Valley Canal, with a trash rack and a stop log slot; (2) an underground 400-foot-long, 8-foot-diameter penstock; (3) a metal powerhouse containing one single turbine and one 890-kilowatt generating unit; and (4) draft tubes and a tailrace discharging into Greenfields Main Canal. The average annual energy production would be 1,840 megawatt hours. The Applicant has purchased all land required for construction of the intake, penstock, powerhouse and substation and will obtain an easement agreement for the transmission line.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 1-(866) 208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Development Application: Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

p. All filings must (1) Bear in all capital letters the title “PROTEST,” “MOTION TO INTERVENE,” “NOTICE OF INTENT TO FILE COMPETING APPLICATION,” “COMPETING APPLICATION,” “COMMENTS,” “REPLY COMMENTS,” “RECOMMENDATIONS,” “TERMS AND CONDITIONS,” or “PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and seven copies to: The Secretary, Federal Energy Regulatory Commission, 888 First Street NE., Washington, DC 20426. An additional copy must be sent to Director, Division of Hydropower Administration and Compliance, Office of Energy Projects, Federal Energy Regulatory Commission, at the above address. A copy of any protest or motion to intervene must be served upon each representative of the applicant specified in the particular application. A copy of all other filings in reference to this application must be accompanied by proof of service on all persons listed in the service list prepared by the Commission in this proceeding, in accordance with 18 CFR 4.34(b) and 385.2010.

q. Agency Comments: Federal, state, and local agencies are invited to file comments on the described application. A copy of the application may be obtained by agencies directly from the Applicant. If an agency does not file comments within the time specified for filing comments, it will be presumed to have—no comments. One copy of an agency's comments must also be sent to the Applicant's representatives.

Dated: December 27, 2011.
Kimberly D. Bose,
Secretary.

[FR Doc. 2011-33641 Filed 12-30-11; 8:45 am]

BILLING CODE 6717-01-P